DEPARTMENT OF COMMERCE

National Oceanic and Atmospheric Administration

[I.D. 111703J]

North Pacific Fishery Management Council; Notice of Public Meeting

AGENCY: National Marine Fisheries Service (NMFS), National Oceanic and Atmospheric Administration (NOAA), Commerce.

ACTION: Meetings of the North Pacific Fishery Management Council Fur Sea Committee.

SUMMARY: The North Pacific Fishery Management Council (Council) Fur Seal Committee will meet December 11, 2003 at the Anchorage Hilton Hotel.

DATES: The meeting is scheduled December 11, 2003 at 6:30 p.m. King Salmon Room.

ADDRESSES: The meeting will be held at the Hilton Hotel, 500 W3rd Avenue, Anchorage, Alaska.

Council address: North Pacific Fishery Management Council, 605 W. 4th Ave., Suite 306, Anchorage, AK 99501-2252.

FOR FURTHER INFORMATION CONTACT: Bill Wilson, Council staff, Phone: 907-271-2809.

SUPPLEMENTARY INFORMATION:

Agenda

(1) Review Committee's Charge.

(2) Committee's working protocol.

(3) NMFS approach and schedule for the draft Environmental Impact Statement on renewing Fur Seal Subsistence Harvest Regulations.

(4) Presentation of Data on Status of the Bering Sea Fur Seal population.

(5) Presentation on groundfish fishery harvest in the Bering Sea Aleutian Islands relative to fur seal foraging areas.

(6) Other items as necessary.

Although non-emergency issues not contained in this agenda may come before this Committee for discussion, those issues may not be the subject of formal Council action during this meeting. Committee action will be restricted to those issues specifically listed in this notice and any issues arising after publication of this notice that require emergency action under section 305(c) of the Magnuson-Stevens Act, provided the public has been notified of the Committee's intent to take final action to address the emergency.

Special Accommodations

These meetings are physically accessible to people with disabilities. Requests for sign language interpretation or other auxiliary aids should be directed to Gail Bendixen at 907-271-2809 at least 7 working days prior to the meeting date.

Dated: November 18, 2003.
Richard W. Surdi,
Acting Director, Office of Sustainable Fisheries, National Marine Fisheries Service.

[FR Doc. E3-00386 Filed 11-21-03; 8:45 am]

BILLING CODE 6717-01-P